DEPARTMENT OF THE INTERIOR

Fish and Wildlife Service

50 CFR Part 17

[Docket Nos. FWS-R8-ES-2013-0072 and FWS-R8-ES-2013-0042; 4500030113]

RIN 1018-AY10 and RIN 1018-AZ70

Endangered and Threatened Wildlife and Plants; Threatened Status for the Bi-State Distinct Population Segment of Greater Sage-Grouse With Special Rule and Designation of Critical Habitat

AGENCY: Fish and Wildlife Service, Interior.

ACTION: Proposed rules; extension of comment periods.

SUMMARY: On October 28, 2013, we, the U.S. Fish and Wildlife Service (Service), announced a proposal to list the bi-State distinct population segment (DPS) of greater sage-grouse (Centrocercus urophasianus) as threatened under the Endangered Species Act of 1973, as amended, with a special rule, and to designate critical habitat. We announce the extension of the comment periods for our October 28, 2013, proposed rules to ensure the public has sufficient time to comment on these proposals, which involve many stakeholders. The Service seeks data and comments from the public on the October 28, 2013, proposed listing rule and proposed critical habitat rule for the bi-State DPS of greater sage-grouse.

DATES: We request that comments on the proposals published October 28, 2013 (78 FR 64358 and 78 FR 64328) be submitted by the close of business on February 10, 2014.

ADDRESSES: Document availability: You may obtain copies of the proposed rules on the Internet at http://www.regulations.gov at Docket No. FWS-R8-ES-2013-0072 (proposed listing with special rule) and Docket No. FWS-R8-ES-2013-0042 (proposed critical habitat), or contact the U.S. Fish and Wildlife Service, Nevada Fish and Wildlife Office or Ventura Fish and Wildlife Service (see FOR FURTHER INFORMATION CONTACT), or by mail from U.S. Fish and Wildlife Service, Nevada Fish and Wildlife Office or Ventura Fish and Wildlife Office (see FOR FURTHER INFORMATION CONTACT).

Comment Submission: You may submit comments by one of the following methods:

(1) Electronically: Go to the Federal eRulemaking Portal: http://www.regulations.gov. In the Search box, enter FWS-R8-ES-2013-0072 (proposed listing) or FWS-R8-ES-2013-0042 (proposed critical habitat), which are the docket numbers for these rulemakings. Then, in the Search panel on the left side of the screen, under the Document Type heading, click on the Proposed Rules link to locate the document. You may submit a comment by clicking on “Comment Now!”

(2) By hard copy for the proposed listing: Submit by U.S. mail or hand-delivery to: Public Comments Processing, Attn: FWS-R8-ES-2013-0072; Division of Policy and Directives Management; U.S. Fish and Wildlife Service; 4401 N. Fairfax Drive, MS 2042-PDM; Arlington, VA 22203. By hard copy for the proposed critical habitat: Submit by U.S. mail or hand-delivery to: Public Comments Processing, Attn: FWS-R8-ES-2013-0042; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Information Requested section below for more information).

FOR FURTHER INFORMATION CONTACT: For general information on the proposed listing and proposed critical habitat designation, as well as information about the proposed listing and proposed critical habitat specific to Nevada (Carson City, Lyon, Douglas, Mineral, and Esmeralda Counties), contact Edward D. Koch, State Supervisor, U.S. Fish and Wildlife Service, Nevada Fish and Wildlife Office, 1340 Financial Boulevard, Suite 234, Reno, NV 89502; telephone 775-861-6300; or facsimile 775-861-6301. For information about the proposed listing and proposed critical habitat specific to California (Alpine, Mono, and Inyo Counties), contact Stephen P. Henry, Deputy Field Supervisor, or Carl Benz, Assistant Field Supervisor, Ventura Fish and Wildlife Office, U.S. Fish and Wildlife Service, 2493 Portola Road, Suite B, Ventura, CA 93003; telephone 805-644-1766; facsimile 805-644-3958. Persons who use a telecommunications device for the deaf (TDD) may call the Federal Information Relay Service (FIRS) at 800-877-8339.

SUPPLEMENTARY INFORMATION:

Background

On October 28, 2013, we published a proposed rule to list the bi-State DPS as a threatened species under the Endangered Species Act of 1973, as amended (Act) (78 FR 64358). We concurrently published a proposed rule to designate critical habitat (78 FR 64328).

We received requests to extend the public comment periods on the proposed rules beyond the December 27, 2013, due date. In order to ensure that the public has an adequate opportunity to review and comment on our proposed rules, we are extending the comment periods for an additional 45 days.

Information Requested

We intend that any final action resulting from these proposed rules will be based on the best scientific and commercial data available and be as accurate and as effective as possible. Therefore, we request comments or information from other concerned Federal and State agencies, the scientific community, or any other interested party concerning the proposed listing and proposed critical habitat rules. Please see the Information Requested section of both the proposed listing and proposed critical habitat rules for a list of the comments that we particularly seek.

For more background on our proposed listing (with special rule) and proposed critical habitat rules, see the October 28, 2013, Federal Register. Both proposed rules are available at the Federal eRulemaking Portal at http://www.regulations.gov (see ADDRESSES section above).

If you previously submitted comments or information on the proposed rules, please do not resubmit them. We have incorporated them into the public record, and we will fully consider them in our final rulemakings. Our final determination concerning these proposed rulemakings will take into consideration all written comments and any additional information we receive.

Please note that submissions merely stating support for or opposition to the actions under consideration without providing supporting information, although noted, will not be considered in making a determination, as section 4(b)(1)(A) of the Act directs that determinations as to whether any species is an endangered or threatened species, and a determination of critical habitat, must be made “solely on the basis of the best scientific and commercial data available.”

You may submit your comments and materials concerning the proposed listing and proposed critical habitat rules by one of the methods listed in ADDRESSES. We request that you send comments only by the methods described in ADDRESSES. If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov. Please include sufficient information with your comments to allow us to verify any scientific or commercial information you include.

Comments and materials we receive, as well as supporting documentation we used in preparing the proposed listing and proposed critical habitat rules, will be available for public inspection on http://www.regulations.gov, or by appointment, during normal business hours, at the U.S. Fish and Wildlife Service, Nevada Fish and Wildlife Office and Ventura Fish and Wildlife Office (see FOR FURTHER INFORMATION CONTACT).

Authors

The primary authors of this notice are the staff members of the Pacific Southwest Regional Office.

Authority

The authority for this action is the Endangered Species Act of 1973, as amended (16 U.S.C. 1531 et seq.).

Dated: December 11, 2013.
Rowan W. Gould,
Acting Director, U.S. Fish and Wildlife Service.

[FR Doc. 2013-30433 Filed 12-19-13; 8:45 am]

BILLING CODE 4310-55-P